DEPARTMENT OF COMMERCE

National Oceanic and Atmospheric Administration

50 CFR Part 679

[Docket No. 070213033-7033-01]

RIN 0648-XB45

Fisheries of the Exclusive Economic Zone Off Alaska; Pacific Ocean Perch and Rougheye Rockfish in the Western Aleutian District of the Bering Sea and Aleutian Islands Management Area

AGENCY: National Marine Fisheries Service (NMFS), National Oceanic and Atmospheric Administration (NOAA), Commerce.

ACTION: Temporary rule; closure.

SUMMARY: NMFS is prohibiting directed fishing for Pacific ocean perch in a specified area of the Western Aleutian District of the Bering Sea and Aleutian Islands management area (BSAI). This action is necessary to limit incidental catch of rougheye rockfish and prevent overfishing of rougheye rockfish in the BSAI.

DATES: Effective 1200 hrs, Alaska local time (A.l.t.), July 11, 2007, through 2400 hrs, A.l.t., December 31, 2007.

FOR FURTHER INFORMATION CONTACT: Josh Keaton, 907-586-7228.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The Magnuson-Stevens Fishery Conservation and Management Act requires that conservation and management measures prevent overfishing. The 2007 rougheye rockfish overfishing limit in the BSAI is 269 metric tons (mt) and the acceptable biological catch (ABC) is 202 mt as established by the 2007 and 2008 final harvest specifications for groundfish in the BSAI (72 FR 9451, March 2, 2007). NMFS closed directed fishing for rougheye rockfish in Table 9 of the 2007 and 2008 final harvest specifications for groundfish in the BSAI (72 FR 9451, March 2, 2007).

Substantial trawl fishing effort will be directed at remaining amounts of Pacific ocean perch in the Western Aleutian District of the BSAI. This fishery has significant incidental catch of rougheye rockfish in certain areas. Data from the groundfish observer program indicates that high incidental catch rates of rougheye rockfish are experienced in the area delineated by straight lines connecting the coordinates in the order listed:

East Buldir Island | 52° 40.00′ N. | 176° 00.00′ E.
| 52° 30.00′ N. | 176° 00.00′ E.
| 52° 30.00′ N. | 176° 40.00′ E.
| 52° 40.00′ N. | 176° 40.00′ E.

If the Pacific ocean perch fishery were allowed to continue in this area beyond July 11, 2007, the ABC for rougheye rockfish would be exceeded.

The Administrator has determined, in accordance with § 679.20(d)(3) that prohibiting directed fishing for Pacific ocean perch in the area delineated by straight lines connecting the coordinates in the order listed:

East Buldir Island | 52° 40.00′ N. | 176° 00.00′ E.
| 52° 30.00′ N. | 176° 00.00′ E.
| 52° 30.00′ N. | 176° 40.00′ E.
| 52° 40.00′ N. | 176° 40.00′ E.

is necessary to prevent overfishing of the rougheye rockfish, and is the least restrictive measure to achieve that purpose. Without this closure, significant incidental catch of rougheye rockfish would occur.

Classification

This action responds to the best available information recently obtained from the fishery. The Assistant Administrator for Fisheries, NOAA (AA), finds good cause to waive the requirement to provide prior notice and opportunity for public comment pursuant to the authority set forth at 5 U.S.C. 553(b)(3)(B) as such requirement is impracticable and contrary to the public interest. This requirement is impracticable and contrary to the public interest as it would prevent NMFS from responding to the most recent fisheries data in a timely fashion and would delay the closure of Pacific ocean perch in the specified area of the Western Aleutian District of the BSAI. NMFS was unable to publish a notice providing time for public comment because the most recent, relevant data only became available as of July 9, 2007.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: July 11, 2007.
James P. Burgess,
Acting Director, Office of Sustainable Fisheries, National Marine Fisheries Service.

[FR Doc. 07-3457 Filed 7-11-07; 2:57 pm]

BILLING CODE 3510-22-S